DEPARTMENT OF TRANSPORTATION

Federal Aviation Administration

Public Notice for Waiver of Aeronautical Land-Use Assurance; North Vernon Municipal Airport; North Vernon, IN

AGENCY: Federal Aviation Administration, DOT.

ACTION: Notice of intent of waiver with respect to land.

SUMMARY: The Federal Aviation Administration (FAA) is considering a proposal to change a portion of the airport from aeronautical use to non-aeronautical use and to authorize the lease of the airport property. The area is a 224-acre parcel of vacant land located west of the airport. The land is presently subject to a farm lease. The land was acquired via quitclaim deed dated February 13, 1948, recorded February 27, 1948, in Jennings County, Deed Record No. 78, Page No. 634-636. There are no impacts to the airport by allowing the airport to lease the property. The land is not needed for aeronautical use, and will be sub-let to various future developers as an industrial airpark. Approval does not constitute a commitment by the FAA to financially assist in the disposal of the subject airport property nor a determination of eligibility for grant-in-aid funding from the FAA. The disposition of the proceeds from the lease of the airport property will be in accordance with FAA's Policy and Procedures Concerning the Use of Airport Revenue, published in the Federal Register on February 16, 1999.

In accordance with Section 47107(h) of Title 49, United States Code, this notice is required to be published in the Federal Register 30 days before modifying the land-use assurance that requires the property to be used for an aeronautical purpose.

DATES: Comments must be received on or before August 16, 2007.

ADDRESSES: Documents reflecting this FAA action may be reviewed at 2300 East Devon Avenue, Des Plaines, IL, 60018, or at North Vernon Municipal Airport, North Vernon, Indiana.

FOR FURTHER INFORMATION CONTACT: Bobb Beauchamp, Environmental Program Manager, 2300 East Devon Avenue, Des Plaines, IL, 60018. Telephone Number 847-294-7364/FAX Number 847-294-7046.

SUPPLEMENTARY INFORMATION: Following is a legal description of the property: A parcel of land situated in Sections 15 and 22, Township 7 North, Range 8 East, Center Township, Jennings County, Indiana, being more particularly described as follows: Beginning at the point of the intersection of the east right-of-way line of the C.C.C. and St. L. Railroad and east and west centerline of said Section 15 also being the point of beginning of the Quitclaim Deed in the Jennings County Deed Record 78 page 634 to 636; thence North 89 degrees, 26 minutes, 06 seconds East, 2134.3 feet to a point on the centerline of Jennings County Road 20 West to a point on the south line of said Quitclaim Deed; thence westerly on and along said south line of said Quitclaim Deed to the west line of said Quitclaim Deed; thence north 11 degrees, 27 minutes, 46 seconds east, 5496.27 feet to the point of beginning containing 282 acres more or less.

Except: A part of Section 15 Township 7 North, Range 8 East, Center Township, Jennings County, Indiana, and more particularly described as follows: Commencing at the point of the intersection of the east right-of-way line of the C.C.C. & St. L. Railroad and east and west centerline of said Section 15 also being the point of beginning of the Quitclaim Deed in the Jennings County Deed Record 78 page 634 to 636; thence north 89 degrees, 26 minutes, 06 seconds east, 2134.3 feet to the point of beginning on the centerline of Jennings County Road 20 West; thence southerly on and along the centerline of Jennings County Road 20 West to a point being 700 feet abeam the extended centerline of Runway 15-33 at the North Vernon Municipal Airport; thence northwesterly on and along a line parallel to and 700 feet abeam the extended centerline of Runway 15-33 at the North Vernon Municipal Airport to a point on the east and west centerline of said Section 15; thence on and along said east and west centerline of said Section 15 to the point of beginning containing 13 acres more or less.

Except: A part of Section 22, Township 7 North, Range 8 East, Center Township, Jennings County, Indiana, and more particularly described as follows: Commencing at the point of the intersection of the east right-of-way line of the C.C.C. & St. L. Railroad and east and west centerline of said Section 15 also being the point of beginning of the Quitclaim Deed in the Jennings County Deed Record 78 page 634 to 636, thence north 89 degrees, 26 minutes, 06 seconds East, 2134.3 feet to a point on the centerline of Jennings County Road 20 West; thence southerly on and along the centerline of Jennings County Road 20 West to the point of beginning being 1000 feet abeam of the extended centerline of Runway 5-23 at the North Vernon Municipal Airport; thence continuing southerly on and along the centerline of Jennings County Road 20 West to a point on the south line of said Quitclaim Deed; thence westerly on and along said south line of said Quitclaim Deed to a point also being 1000 feet abeam the extended centerline of Runway 5-23 at the North Vernon Municipal Airport; thence northeasterly on and along a line parallel to and 1000 feet abeam the extended centerline of Runway 5-23 at the North Vernon Municipal Airport to the point of beginning containing 45 acres more or less.

Together containing 224 acres more or less, subject to all liens, encumbrances, easements, limitations, and restrictions of record.

Issued in Des Plaines, Illinois, on May 1, 2007.
James G. Keefer
Manager, Chicago Airports District Office, FAA, Great Lakes Region.

[FR Doc. 07-3462 Filed 7-16-07; 8:45 am]

BILLING CODE 4910-13-M